DEPARTMENT OF TRANSPORTATION

Federal Highway Administration

Environmental Impact Statement: Erie County, NY

AGENCY: Federal Highway Administration (FHWA), United States Department of Transportation (DOT).

ACTION: Rescinded Notice of Intent.

SUMMARY: FHWA is issuing this rescinded notice to advise the public that FHWA will not be preparing and issuing a Final Environmental Impact Statement for the proposed Peace Bridge Expansion Project in the city of Buffalo, Erie County, New York and the town of Fort Erie, Ontario Canada (NYSDOT Project Identification Number: 5753.58). The Peace Bridge Expansion Project (project) is a proposal for operational improvements at the Peace Bridge crossing between the United States and Canada. A notice of intent to prepare an EIS was published in the Federal Register on October 9, 2001.

FOR FURTHER INFORMATION CONTACT: Jonathan D. McDade, Division Administrator, Federal Highway Administration, New York Division, Leo W. O'Brien Federal Building, Suite 719, 11A Clinton Avenue, Albany, New York 12207. Telephone (518) 431-4127, or Farhan F. Haddad, P.E., Deputy Director, Major Projects Office, New York State Department of Transportation, 50 Wolf Road, Albany, New York 12232. Telephone (518) 457-7282.

SUPPLEMENTARY INFORMATION: FHWA in cooperation with the New York State Department of Transportation (NYSDOT) and the Buffalo-Fort Erie Public Bridge Authority (PBA) previously intended to prepare an EIS to evaluate the impacts and alternatives to constructing a companion bridge to the existing structure and to expand the border crossing plaza for Federal inspection agencies with reconstruction, relocation, and improvements to connecting roadways as well.

As the project and environmental documentation developed from the original scope, significant spatial challenges resulted from the design and operational complexities required to meet the defined objectives (security requirements and operational improvements). At this time, the significantly large footprint and associated impacts that are required for an adequate design to meet the objectives of the project has caused the cost to escalate beyond the sponsor's ability to secure sufficient funding. This determination was reached as a result of the extensive analysis and coordination that has been conducted on this project to date. Additionally, as a result of the comprehensive environmental review and coordination with Federal and state resource agencies, the community and resource agency concerns relating to historic impacts, relocations, and other environmental impacts were at this time becoming increasingly paramount.

The project has been envisioned for over two decades and engendered controversy since its inception. The analysis and consultation which FHWA has conducted with the other lead agencies has established that the original purpose of improving operations and security at the border can be accomplished without a combined bridge and plaza improvements project and addressed by a project of more limited scope. The PBA will be evaluating a series of plaza operational improvements and minor construction projects and will not be seeking Federal funding for such work. In light of this information and funding constraints, FHWA has determined that the plaza improvements and bridge construction have independent utility with logical termini and do not foreclose future improvements or projects with respect to either facility. In light of this rescinded notice terminating the project, the actions of the PBA comport in all respects with Federal law.

(Catalog of Federal Domestic Assistance Program Number 20.205, Highway Planning and Construction. The regulations implementing Executive Order 12372 regarding intergovernmental consultation on Federal programs and activities apply to this program.)

Authority: 23 U.S.C. 315; 23 CFR 771.123.

Issued on: January 4, 2012.
Jonathan D. McDade,
Division Administrator, Federal Highway Administration, Albany, New York.

[FR Doc. 2012-296 Filed 1-9-12; 8:45 am]

BILLING CODE 4910-22-P